DEPARTMENT OF HEALTH AND HUMAN SERVICES

Centers for Medicare & Medicaid Services

42 CFR Part 482

[CMS-3244-F2]

RIN-0938-AQ89

Medicare and Medicaid Program; Correcting Amendment

AGENCY: Centers for Medicare & Medicaid Services (CMS), HHS.

ACTION: Final rule; correcting amendment.

SUMMARY: This document corrects a technical error that appeared in the final rule published in the Federal Register (77 FR 29034) on May 16, 2012, entitled “Reform of Hospital and Critical Access Hospital Conditions of Participation.”

DATES: This correcting amendment is effective February 25, 2014.

FOR FURTHER INFORMATION CONTACT: Ronisha Davis, (410) 786-6882.

SUPPLEMENTARY INFORMATION:

I. Background

In FR Doc. 2012-11548 (77FR 29034) of May 16, 2012, the final rule entitled “Reform of Hospital and Critical Access Hospital Conditions of Participation,” there were technical errors that are identified and corrected in the regulations text of this correcting amendment.

II. Summary of Errors in the Regulations Text

On page 29075 of the May 16, 2012 Federal Register final rule, in the amendatory instructions for 42 CFR 482.42, we revised the introductory text of paragraph (a) to include the provisions of paragraph (a)(1). However, we inadvertently neglected to omit paragraph (a)(1) from the regulations text. In addition, we proposed to remove the burdensome requirement for an infection log at paragraph (a)(2), but inadvertently omitted the removal of paragraph (a)(2) from the regulations text.

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued. The provision finalized in the final rule noted above has previously been subjected to notice and comment procedures. These corrections do not make substantive changes to the requirement that was finalized in the final rule. In addition, we believe it is important for the public to have the correct information as soon as possible and find no reason to delay the dissemination of it.

For the reasons stated above, we find that both notice and comment and the 30-day delay in effective date for the correction notice are unnecessary. Therefore, we find there is good cause to waive notice and comment procedures and the 30-day delay in effective date for this correction notice.

List of Subjects in 42 CFR Part 482

Grant programs, Health, Hospitals, Medicaid, Medicare, Reporting and recordkeeping requirements.

Accordingly, 42 CFR chapter IV is corrected by making the following correcting amendments to part 482:

PART 482—CONDITIONS OF PARTICIPATION FOR HOSPITALS

1. The authority citation for part 482 continues to read as follows:

Authority: Secs. 1102, 1871 and 1881 of the Social Security Act (42 U.S.C. 1302, 1395hh, and 1395rr), unless otherwise noted.

Subpart C—Basic Hospital Functions

§ 482.42 [Corrected]

2. In § 482.42, remove paragraphs (a)(1) and (a)(2).

(Catalog of Federal Domestic Assistance Program No. 93.778, Medical Assistance Program No. 93.773, Medicare—Hospital Insurance; and Program No. 93.774, Medicare—Supplementary Medical Insurance Program)

Dated: February 18, 2014.
Jennifer Cannistra,
Executive Secretary to the Department.

[FR Doc. 2014-04024 Filed 2-24-14; 8:45 am]

BILLING CODE 4120-01-P